DEPARTMENT OF THE INTERIOR

Fish and Wildlife Service

[Docket No. FWS-R2-ES-2024-N011; FXES11130200000-245-FF02ENEH00]

Endangered and Threatened Wildlife and Plants; Initiation of 5-Year Status Reviews of 22 Species in the Southwest; Correction

AGENCY: Fish and Wildlife Service, Interior.

ACTION: Notice of initiation of reviews; correction.

SUMMARY: We, the U.S. Fish and Wildlife Service, published a notice in the Federal Register on January 25, 2024, initiating 5-year status reviews of 22 species in the Southwest under the Endangered Species Act. We inadvertently provided incorrect information for our Austin, Texas, field office and misprinted the listing status of one species, the whooping crane. We are publishing this notice to make those corrections.

DATES: We are requesting submission of new information no later than February 26, 2024.

FOR FURTHER INFORMATION CONTACT: Beth Forbus, by telephone at 505-248-6681 or by email at Beth_Forbus@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On January 25, 2024, we, the U.S. Fish and Wildlife Service, published a notice initiating 5-year status reviews of 22 species in the Southwest under the Endangered Species Act (16 U.S.C. 1531 et seq.). We inadvertently provided incorrect information for the Austin, Texas, field office and misprinted the listing status of one species, the whooping crane (Grus americana). We are publishing this notice to make those corrections. For how to provide comments, see our January 25, 2024, notice (89 FR 4966).

Corrections

In the Federal Register of January 25, 2024, in FR Doc. 2024-01493, please make the following corrections:

1. On page 4967, in the first row of the table, replace the telephone number in the “Contact person, phone, email” entry with “512-937-7371”.

2. On page 4967, in the first row of the table, replace the entire “Contact person's U.S. mail address” entry with “U.S. Fish and Wildlife Service, Austin Ecological Services Office, 1505 Ferguson Lane, Austin, TX 78754.”.

3. On page 4968, in the “Whooping crane” entry in the table, in the “Listing status” column, replace “Threatened” with “Endangered”.

Jeffrey Fleming,
Acting Regional Director, Southwest Region, U.S. Fish and Wildlife Service.

[FR Doc. 2024-03353 Filed 2-16-24; 8:45 am]

BILLING CODE 4333-15-P